NUCLEAR REGULATORY COMMISSION

[Docket Nos. 50-348 and 50-364]

Southern Nuclear Operating Company, Joseph M. Farley Nuclear Plant; Notice of Receipt and Availability of Application for Renewal of Facility Operating License Nos. NPF-2 and NPF-8 for an Additional 20-Year Period

The U.S. Nuclear Regulatory Commission (NRC) has received an application from Southern Nuclear Operating Company (SNC), on September 15, 2003, filed pursuant to Section 103 of the Atomic Energy Act of 1954, as amended, and 10 CFR part 54 for renewal of Operating License Nos. NPF-2 and NPF-8, which authorize the applicant to operate Joseph M. Farley Nuclear Plant, Units 1 and 2. Farley Nuclear Plant consists of two Westinghouse pressurized water reactor units located about 16.5 miles east of the City of Dothan, in Houston County, Alabama. The operating licenses for Farley Nuclear Plant, Units 1 and 2, expire on June 25, 2017, and March 31, 2021, respectively. The acceptability of the tendered application for docketing and other matters, including an opportunity to request a hearing, will be the subject of subsequent Federal Register notices.

Copies of the application are available for public inspection at the Public Document Room, located at One White Flint North, 11555 Rockville Pike (first floor), Rockville, Maryland, or electronically from the Publicly Available Records (PARs) component of the NRC's Agencywide Documents Access and Management System (ADAMS) under Accession Number ML032721356.

The ADAMS Public Electronic Reading Room is accessible from the NRC Web site at http://www.nrc.gov/NRC/ADAMS/index.html. In addition, the application is available on the NRC Web page at http://www.nrc.gov/NRC/REACTOR/LR/index.html. If you do not have access to ADAMS or if there are problems in accessing the documents located in ADAMS, contact the NRC Public Document Room (PDR) Reference staff at 1-800-397-4209, 301-415-4737 or via e-mail to pdr@nrc.gov.

The license renewal application for the Farley Nuclear Plant is also available at the Houston Love Memorial Library, 212 West Burdesha Street, Dothan, Alabama.

Dated at Rockville, Maryland, the 30th day of September, 2003.
For the Nuclear Regulatory Commission.
Pao-Tsin Kuo,
Program Director, License Renewal and Environmental Impacts, Division of Regulatory Improvement Programs, Office of Nuclear Reactor Regulation.

[FR Doc. 03-25242 Filed 10-3-03; 8:45 am]

BILLING CODE 7590-01-P